FEDERAL COMMUNICATIONS COMMISSION

47 CFR Part 15

[WT Docket Nos. 08-166, 08-167, and ET Docket No. 10-24; DA 10-92]

Revisions to Rules Authorizing the Operation of Low Power Auxiliary Stations in the 698-806 MHz Band; Public Interest Spectrum Coalition, Petition for Rulemaking Regarding Low Power Auxiliary Stations, Including Wireless Microphones, and the Digital Television Transition

AGENCY: Federal Communications Commission.

ACTION: Final rule.

SUMMARY: In this order, Wireless Telecommunications Bureau and Consumer and Governmental Affairs Bureau of the Federal Communications Commission adopt the specific language that must be used in the consumer disclosure that is required by Section 15.216 of Appendix B in the Wireless Microphone Report and Order.¹

¹ Revisions to Rules Authorizing the Operation of Low Power Auxiliary Stations in the 698-806 MHz Band; Public Interest Spectrum Coalition, Petition for Rulemaking Regarding Low Power Auxiliary Stations, Including Wireless Microphones, and the Digital Television Transition; Amendment of Parts 15, 74 and 90 of the Commission's Rules Regarding Low Power Auxiliary Stations, Including Wireless Microphones, WT Docket Nos. 08-166, 08-167, ET Docket Nos. 10-24, Report and Order and Further Notice of Proposed Rulemaking, FCC 10-16 at para. 99 (rel. October 15, 2010) (“Wireless Microphone Report and Order”).

DATES: This rule amends § 15.216, which contains information collection requirements that have not been approved by OMB. The FCC will publish a document in the Federal Register announcing the effective date.

SUPPLEMENTARY INFORMATION: This is a summary of the Order in WT Docket Nos. 08-166 and 08-167, ET Docket No. 10-24 and DA 10-92, adopted January 15, 2010, and released on January 15, 2010. In this order, the Wireless Telecommunications Bureau and Consumer and Governmental Affairs Bureau of the Federal Communications Commission adopt the specific language that must be used in the consumer disclosure that is required by Section 15.216 of Appendix B in the Wireless Microphone Report and Order.² This disclosure requirement is applicable to persons who manufacture, sell, lease, or offer for sale or lease low power auxiliary stations, including wireless microphones, capable of operating in the core TV bands (channels 2-51, excluding channel 37).

² Revisions to Rules Authorizing the Operation of Low Power Auxiliary Stations in the 698-806 MHz Band; Public Interest Spectrum Coalition, Petition for Rulemaking Regarding Low Power Auxiliary Stations, Including Wireless Microphones, and the Digital Television Transition; Amendment of Parts 15, 74 and 90 of the Commission's Rules Regarding Low Power Auxiliary Stations, Including Wireless Microphones, WT Docket Nos. 08-166, 08-167, ET Docket Nos. 10-24, Report and Order and Further Notice of Proposed Rulemaking, FCC 10-16 at para. 99 (rel. October 15, 2010) (“Wireless Microphone Report and Order”).

Order

1. On January 14, 2010, the Commission adopted a Wireless Microphone Report and Order.³ In the Wireless Microphone Report and Order, the Commission took action to ensure that low power auxiliary stations, including wireless microphones, are cleared from the 700 MHz Band (689-806 MHz) so that public safety and commercial licensees can operate in the band without interference. The Commission adopted a new rule, Section 15.216, which provides that any person who manufactures, sells, leases, or offers for sale or lease wireless microphones and other low power auxiliary stations capable of operating in the core TV bands must display a consumer disclosure text.⁴

³ Id.

⁴ See id., Appendix B.

2. The Commission delegated authority to the Wireless Telecommunications Bureau and the Consumer and Governmental Affairs Bureau to adopt the specific language that must be used in the consumer disclosure that is required by Section 15.216 of Appendix B in the Wireless Microphone Report and Order.⁵ The Wireless Telecommunications Bureau and the Consumer and Governmental Affairs Bureau hereby adopt the consumer disclosure text as required by the Commission.

⁵ Id. at para. 99.

List of Subjects in 47 CFR Part 15

Communications equipment, Labeling, and Reporting and recordkeeping requirements.

PART 15—RADIO FREQUENCY DEVICES

For the reason discussed in the preamble, the Federal Communications Commission amends 47 CFR part 15 as follows:

1. The authority citation for part 15 continues to read as follows:

Authority: 47 U.S.C. 154, 302a, 303, 304, 307, 336, and 544a.

2. Section 15.216 is amended by adding an appendix to read as follows:

§ 15.216 Disclosure Requirements for wireless microphones and other low power auxiliary stations capable of operating in the core TV bands.

* * * * *

Appendix to § 15.216—Consumer Alert

Consumer Alert

Most users do not need a license to operate this wireless microphone system. Nevertheless, operating this microphone system without a license is subject to certain restrictions: The system may not cause harmful interference; it must operate at a low power level (not in excess of 50 milliwatts); and it has no protection from interference received from any other device. Purchasers should also be aware that the FCC is currently evaluating use of wireless microphone systems, and these rules are subject to change. For more information, call the FCC at 1-888-CALL-FCC (TTY: 1-888-TELL-FCC) or visit the FCC's wireless microphone Web site at http://www.fcc.gov/cgb/wirelessmicrophones.

Ruth Milkman,
Chief, Wireless Telecommunications Bureau, Federal Communications Commission.
Joel Gurin,
Chief, Consumer and Governmental Affairs Bureau, Federal Communications Commission.

[FR Doc. 2010-1151 Filed 1-21-10; 8:45 am]

BILLING CODE 6712-01-P